DEPARTMENT OF HEALTH AND HUMAN SERVICES

Centers for Disease Control and Prevention (CDC)

Board of Scientific Counselors, National Center for Environmental Health/Agency for Toxic Substances and Disease Registry (BSC, NCEH/ATSDR), Lead Poisoning Prevention (LPP) Subcommittee

In accordance with section 10(a)(2) of the Federal Advisory Committee Act (Pub. L. 92-463), the CDC, National Center for Environmental Health/Agency for Toxic Substances and Disease Registry (NCEH/ATSDR) announces the following meeting of the aforementioned committee:

Time and Date: 8:30 a.m.—3:15 p.m. EDT, September 19, 2016.

Place: CDC, 4770 Buford Highway, Building 106, Conference Room 1/A, Atlanta, Georgia 30341. The meeting will also be held by teleconference. To participate in the teleconference, please dial 1-866-687-6445, passcode 5598486.

Status: The meeting is open to the public, the conference room accommodates approximately 60 people and will be limited only by the space available. The public is welcome to participate during the public comment period which is scheduled from 10:15 a.m. until 10:30 a.m. EST (15 minutes).

Individuals wishing to make a comment during the public comment period or to attend the meeting in person, please email your name, organization, and phone number by Thursday, September 15, 2016 to Amanda Malasky at AMalasky@cdc.gov.

Purpose: The subcommittee will discuss strategies and options on ways to prioritize NCEH/ATSDR's activities, improve health outcomes, and address health disparities as it relates to lead exposures. The subcommittee will deliberate on ways to evaluate lead exposure and how to best conduct health evaluations through exposure and epidemiologic studies. Subcommittee proposals on lead prevention practices and national lead poisoning prevention efforts will be provided to the Board of Scientific Counselors for deliberation and possible adoption as formal recommendations to NCEH/ATSDR.

Matters for Discussion: Agenda items will include the following: NCEH/ATSDR support for the public health emergency in Flint; rethinking the strategy for the NCEH Lead Surveillance Program; CDC's Blood Reference Value for Lead; other emerging lead topics; advice, guidance, recommendations, and summary and next steps.

Agenda items are subject to change as priorities dictate.

Contact Person for More Information: Amanda Malasky, Coordinator, Lead Poisoning Prevention Subcommittee, BSC, NCEH/ATSDR, 4770 Buford Highway, Mail Stop F-45, Chamblee, Georgia 30345; telephone 770/488-7699, Fax: 770/488-3377; Email: AMalasky@cdc.gov.

The Director, Management Analysis and Services Office has been delegated the authority to sign Federal Register notices pertaining to announcements of meetings and other committee management activities, for both the Centers for Disease Control and Prevention and the Agency for Toxic Substances and Disease Registry.

Elaine L. Baker,
Director,
Management Analysis and Services Office, Centers for Disease Control and Prevention.

[FR Doc. 2016-19788 Filed 8-18-16; 8:45 am]

BILLING CODE 4163-18-P